DEPARTMENT OF ENERGY

Federal Energy Regulatory Commission

Combined Notice of Filings #1

Take notice that the Commission received the following exempt wholesale generator filings:

Docket Numbers: EG22-184-000.

Applicants: TN Solar 1, LLC.

Description: Notice of Self-Certification of Exempt Wholesale Generator Status of TN Solar 1, LLC.

Filed Date: 7/22/22.

Accession Number: 20220722-5140.

Comment Date: 5 p.m. ET 8/12/22.

Docket Numbers: EG22-185-000.

Applicants: EEC Skyhawk Lessee LLC.

Description: Notice of Self-Certification of Exempt Wholesale Generator Status of EEC Skyhawk Lessee LLC.

Filed Date: 7/22/22.

Accession Number: 20220722-5142.

Comment Date: 5 p.m. ET 8/12/22.

Docket Numbers: EG22-186-000.

Applicants: Top Hat Wind Energy LLC.

Description: Notice of Self-Certification of Exempt Wholesale Generator Status of Top Hat Wind Energy LLC.

Filed Date: 7/25/22.

Accession Number: 20220725-5065.

Comment Date: 5 p.m. ET 8/15/22.

Docket Numbers: EG22-187-000.

Applicants: Top Hat Wind Energy Holdings LLC.

Description: Top Hat Wind Energy Holdings LLC submits Notice of Self-Certification of Exempt Wholesale Generator Status.

Filed Date: 7/25/22.

Accession Number: 20220725-5070.

Comment Date: 5 p.m. ET 8/15/22.

Take notice that the Commission received the following Complaints and Compliance filings in EL Dockets:

Docket Numbers: EL22-78-000.

Applicants: Industrial Energy Consumers of America, et al. v. Midcontinent Independent System Operator, Inc.

Description: Complaint of Industrial Energy Consumers of America, et al.

Filed Date: 7/22/22.

Accession Number: 20220722-5173.

Comment Date: 5 p.m. ET 8/11/22.

Take notice that the Commission received the following electric rate filings:

Docket Numbers: ER21-1555-002.

Applicants: New Mexico Wind, LLC.

Description: Refund Report: Refund Report Filing Under Docket ER21-1555 to be effective N/A.

Filed Date: 7/25/22.

Accession Number: 20220725-5076.

Comment Date: 5 p.m. ET 8/15/22.

Docket Numbers: ER22-2141-000.

Applicants: Sun Mountain Solar 1, LLC.

Description: Agreement to the Release of Non-Public Information of Sun Mountain Solar 1, LLC.

Filed Date: 7/21/22.

Accession Number: 20220721-5151.

Comment Date: 5 p.m. ET 8/11/22.

Docket Numbers: ER22-2210-001.

Applicants: Public Service Company of Colorado.

Description: Tariff Amendment: 2022-07-22-PSCo-CSU-WACM-666-Amnd to be effective 6/29/2022.

Filed Date: 7/22/22.

Accession Number: 20220722-5137.

Comment Date: 5 p.m. ET 8/12/22.

Docket Numbers: ER22-2283-000; ER22-2284-000.

Applicants: Black Bear Alabama Solar Tenant, LLC, Black Bear Alabama Solar 1, LLC.

Description: Agreement to the Release of Non-Public Information of Black Bear Alabama Solar 1, LLC, et al.

Filed Date: 7/21/22.

Accession Number: 20220721-5150.

Comment Date: 5 p.m. ET 8/11/22.

Docket Numbers: ER22-2470-000.

Applicants: Katmai Energy, LLC.

Description: Notice of Cancellation of Market Based Rate Tariff of Katmai Energy, LLC.

Filed Date: 7/20/22.

Accession Number: 20220720-5206.

Comment Date: 5 p.m. ET 8/10/22.

Docket Numbers: ER22-2471-000.

Applicants: Freeport McMoRan Copper & Gold Energy Services LLC.

Description: Request for Renewed Authorization to Undertake Affiliate Sales of Freeport-McMoRan Copper & Gold Energy Services.

Filed Date: 7/21/22.

Accession Number: 20220721-5152.

Comment Date: 5 p.m. ET 8/11/22.

Docket Numbers: ER22-2472-000.

Applicants: Lockhart Transmission Holdings, LLC.

Description: Petition for Waivers and Blanket Authorization under section 204 of Lockhart Transmission Holdings, LLC.

Filed Date: 7/22/22.

Accession Number: 20220722-5170.

Comment Date: 5 p.m. ET 8/12/22.

Docket Numbers: ER22-2473-000.

Applicants: Florida Power & Light Company.

Description: § 205(d) Rate Filing: FPL Amendment to NITSA and NOA with City of Blountstown to be effective 12/31/9998.

Filed Date: 7/25/22.

Accession Number: 20220725-5069.

Comment Date: 5 p.m. ET 8/15/22.

Docket Numbers: ER22-2474-000.

Applicants: Top Hat Wind Energy LLC.

Description: Baseline eTariff Filing: Application for Market-Based Rate Authorization to be effective 9/24/2022.

Filed Date: 7/25/22.

Accession Number: 20220725-5072.

Comment Date: 5 p.m. ET 8/15/22.

Docket Numbers: ER22-2475-000.

Applicants: Top Hat Wind Energy Holdings LLC.

Description: Baseline eTariff Filing: Application for Market-Based Rate Authorization to be effective 9/24/2022.

Filed Date: 7/25/22.

Accession Number: 20220725-5073.

Comment Date: 5 p.m. ET 8/15/22.

Docket Numbers: ER22-2476-000.

Applicants: Arizona Public Service Company.

Description: § 205(d) Rate Filing: OATT Modifications—MOD-030 to be effective 10/5/2022.

Filed Date: 7/25/22.

Accession Number: 20220725-5074.

Comment Date: 5 p.m. ET 8/15/22.

Docket Numbers: ER22-2477-000.

Applicants: PJM Interconnection, L.L.C.

Description: § 205(d) Rate Filing: ISA, SA No. 6542 and CSA, SA No. 6543; Queue No. AC1-033 to be effective 6/23/2022.

Filed Date: 7/25/22.

Accession Number: 20220725-5095.

Comment Date: 5 p.m. ET 8/15/22.

Docket Numbers: ER22-2478-000.

Applicants: Skylar Energy LP.

Description: Tariff Amendment: Notice of Cancellation of Market Based Rate Tariff and Request for Waiver to be effective 7/26/2022.

Filed Date: 7/25/22.

Accession Number: 20220725-5097.

Comment Date: 5 p.m. ET 8/15/22.

Docket Numbers: ER22-2479-000.

Applicants: Skylar Resources LP.

Description: Tariff Amendment: Notice of Cancellation of Market Based Rate Tariff and Request for Waiver to be effective 7/26/2022.

Filed Date: 7/25/22.

Accession Number: 20220725-5099.

Comment Date: 5 p.m. ET 8/15/22.

Docket Numbers: ER22-2480-000.

Applicants: Black Hills Power, Inc.

Description: § 205(d) Rate Filing: Filing of Jurisdictional Agreements to be effective 12/31/9998.

Filed Date: 7/25/22.

Accession Number: 20220725-5129.

Comment Date: 5 p.m. ET 8/15/22.

Docket Numbers: ER22-2481-000.

Applicants: Seven Cowboy Wind Project, LLC.

Description: Baseline eTariff Filing: Seven Cowboy Wind Project, LLC MBR Tariff to be effective 8/31/2022.

Filed Date: 7/25/22.

Accession Number: 20220725-5133.

Comment Date: 5 p.m. ET 8/15/22.

Docket Numbers: ER22-2482-000.

Applicants: 25 Mile Creek Windfarm LLC.

Description: Baseline eTariff Filing: 25 Mile Creek Windfarm LLC MBR Tariff to be effective 7/26/2022.

Filed Date: 7/25/22.

Accession Number: 20220725-5137.

Comment Date: 5 p.m. ET 8/15/22

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2022.
Debbie-Anne A. Reese,
Deputy Secretary.

[FR Doc. 2022-16301 Filed 7-28-22; 8:45 am]

BILLING CODE 6717-01-P